DEPARTMENT OF HEALTH AND HUMAN SERVICES

National Institutes of Health

Center For Scientific Review; Amended Notice of Meeting

Notice is hereby given of a change in the meeting of the Center for Scientific Review Special Emphasis Panel, October 25, 2005, 1 p.m. to October 25, 2005, 3 p.m., Holiday Inn Select Bethesda, 8120 Wisconsin Ave., Bethesda, MD 20814 which was published in the Federal Register on October 7, 2005, 70 FR 58723-58725.

The meeting will be held on November 9, 2005, from 12 p.m. to 2 p.m., at the National Institutes of Health, 6701 Rockledge Drive, Bethesda, MD 20882. The meeting is closed to the public.

Dated: October 20, 2005.
Anthony M. Coelho, Jr.,
Acting Director, Office of Federal Advisory Committee Policy.

[FR Doc. 05-21659 Filed 10-31-05; 8:45 am]

BILLING CODE 4140-01-M